ENVIRONMENTAL PROTECTION AGENCY

[FRL-9955-42-Region 9]

Section 9 Lease Site, Coconino County, AZ; Notice of Proposed CERCLA Settlement Agreement for Recovery of Past Response Costs

AGENCY: Environmental Protection Agency (EPA).

ACTION: Notice; request for comment.

SUMMARY: In accordance with Section 122(i) of the Comprehensive Environmental Response, Compensation and Liability Act of 1980, as amended (CERCLA), 42 U.S.C. 9622(i), notice is hereby given of a proposed administrative settlement with two parties for recovery of response costs concerning the Section 9 Lease Site in Coconino County, Arizona. The settlement is entered into pursuant to Section 122(h)(1) of CERCLA, 42 U.S.C. 9622(h)(1), and it requires the settling parties to pay $230,000 to the United States Environmental Protection Agency (EPA). The settlement includes a covenant not to sue the settling parties for certain costs pursuant to Sections 106 or 107(a) of CERCLA, 42 U.S.C. 9606 or 9607(a). For thirty (30) days following the date of publication of this Notice in the Federal Register, the Agency will receive written comments relating to the settlement. The Agency will consider all comments received and may modify or withdraw its consent to the settlement if comments received disclose facts or considerations which indicate the proposed settlement is inappropriate, improper, or inadequate. The Agency's response to any comments received will be available for public inspection at 75 Hawthorne Street, San Francisco, CA 94105.

DATES: Pursuant to Section 122(i) of CERCLA, EPA will receive written comments relating to this proposed settlement for thirty (30) days following the date of publication of this Notice in the Federal Register.

ADDRESSES: The proposed settlement is available for public inspection at EPA Region IX, 75 Hawthorne Street, San Francisco, California. A copy of the proposed settlement may be obtained from Joshua Wirtschafter, EPA Region IX, 75 Hawthorne Street, ORC-3, San Francisco, CA 94105, telephone number 415-972-3912. Comments should reference the Section 9 Lease Site, Coconino County, Arizona, and should be addressed to Joshua Wirtschafter at the above address.

FOR FURTHER INFORMATION CONTACT: Joshua Wirtschafter, Assistant Regional Counsel (ORC-3), Office of Regional Counsel, U.S. EPA Region IX, 75 Hawthorne Street, San Francisco, CA 94105; phone: (415) 972-3912; fax: (417) 947-3570; email: wirtschafter.joshua@epa.gov.

SUPPLEMENTARY INFORMATION: Parties to the Proposed Settlement: Babbitt Ranches, LLC and C.O. Bar, Inc.

Dated: November 4, 2016.
Enrique Manzanilla,
Director, Superfund Division, U.S. EPA, Region IX.

[FR Doc. 2016-27978 Filed 11-18-16; 8:45 am]

BILLING CODE 6560-50-P